DEPARTMENT OF LABOR

Employment and Training Administration

[TA-W-73,230; TA-W-73,230A]

Plastic Omnium Automotive Exteriors, LLC, Anderson, SC; Plastic Omnium Automotive Exteriors, LLC, Troy, MI; Amended Certification Regarding Eligibility To Apply for Worker Adjustment Assistance

In accordance with Section 223 of the Trade Act of 1974, as amended (“Act”), 19 U.S.C. 2273, the Department of Labor issued a Certification of Eligibility to Apply for Worker Adjustment Assistance on March 18, 2010, applicable to workers of Plastic Omnium Automotive Exteriors, LLC, Anderson, South Carolina. The notice was published in the Federal Register April 23, 2010 (75 FR 21356). The workers are engaged in the production of automotive parts.

New information shows that worker separations have occurred involving workers in support of the Anderson, South Carolina location of Plastic Omnium Automotive Exteriors, LLC, working out of Troy, Michigan. The workers provided office, engineering and sales services supporting the Anderson, South Carolina production facility of the subject firm.

Based on these findings, the Department is amending this certification to include workers in support of the Anderson, South Carolina facility working out of Troy, Michigan.

The intent of the Department's certification is to include all workers of the subject firm who were adversely affected as suppliers of component parts to be incorporated into automotive vehicles to a firm that employed a worker group who is covered by an active Trade Adjustment Assistance Certification.

The amended notice applicable to TA-W-73,230 is hereby issued as follows:

“All workers of Plastic Omnium Automotive Exteriors, LLC, Anderson, South Carolina (TA-W-73,230), and Troy, Michigan (TA-W-73,230A), who became totally or partially separated from employment on or after January 6, 2009 through March 18, 2012, and all workers in the group threatened with total or partial separation from employment on date of certification through two years from the date of certification, are eligible to apply for adjustment assistance under Chapter 2 of Title II of the Trade Act of 1974, as amended.”

Signed in Washington, DC this 4th day of June, 2010.
Del Min Amy Chen
Certifying Officer, Division of Trade Adjustment Assistance.

[FR Doc. 2010-14450 Filed 6-15-10; 8:45 am]

BILLING CODE 4510-FN-P